DEPARTMENT OF HEALTH AND HUMAN SERVICES

Administration for Children and Families

Submission for Office of Management and Budget Review; Temporary Assistance for Needy Families Expenditure Report, Form ACF-196R

AGENCY: Office of Family Assistance, Administration for Children and Families, United States Department of Health and Human Services.

ACTION: Request for public comments.

SUMMARY: The Administration for Children and Families (ACF) Office of Family Assistance (OFA) is requesting a 3-year extension of the Temporary Assistance for Needy Families (TANF) Expenditure Report, Form ACF-196R (Office of Management and Budget (OMB) #0970-0446 expires February 29, 2024). ACF is proposing minor updates to the form to update references to lapsed timeframes, add demonstrative tables that aid in a recipient's comprehension of reporting requirements, incorporate minor edits to the instructions, and to adjust formatting to improve presentation.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: Form ACF-196R is used by states administering the TANF program to report quarterly expenditure data and to request quarterly grant funds. Failure to collect the data would seriously compromise OFA's and ACF's ability to monitor TANF expenditures and compliance with statutory requirements. These data are also needed to estimate outlays and to prepare reports and budget submissions for Congress.

Respondents: State agencies administering the TANF program (50 States and the District of Columbia).

Annual Burden Estimates
Instrument | Total number of respondents | Annual number of responses per respondent | Average burden hours per response | Annual burden hours
Form ACF-196R | 51 | 4 | 14 | 2,856

Authority: Social Security Act, Section 409; 45 CFR 265.3-265.9.

Mary B. Jones,
ACF/OPRE Certifying Officer.

[FR Doc. 2023-27756 Filed 12-15-23; 8:45 am]

BILLING CODE 4184-36-P